DEPARTMENT OF COMMERCE

International Trade Administration

[C-570-948]

Certain Steel Grating from the People's Republic of China: Postponement of Preliminary Determination in the Countervailing Duty Investigation

AGENCY: Import Administration, International Trade Administration, Department of Commerce.

FOR FURTHER INFORMATION CONTACT: Sean Carey or Justin Neuman, AD/CVD Operations, Office 6, Import Administration, International Trade Administration, U.S. Department of Commerce, 14th Street and Constitution Avenue, N.W., Washington, DC 20230; telephone: (202) 482-3964 and (202) 482-0486, respectively.

SUPPLEMENTARY INFORMATION:

Background

On June 18, 2009, the Department of Commerce (the Department) initiated the countervailing duty investigation of certain steel grating from the People's Republic of China. See Certain Steel Grating From the People's Republic of China: Initiation of Countervailing Duty Investigation, 74 FR 30278 (June 25, 2009). Currently, the preliminary determination is due no later than August 22, 2009.

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, among other reasons, the petitioner makes a timely request for an extension pursuant to section 703(c)(1)(A) of the Act. In the instant investigation, the petitioner made a timely request on July 22, 2009, requesting a postponement until 130 days from the initiation date. See 19 CFR 351.205(e) and the petitioner's July 22, 2009, letter requesting postponement of the preliminary determination. Therefore, pursuant to the discretion afforded the Department under 703(c)(1)(A) of the Act and because the Department does not find any compelling reason to deny the request, we are fully extending the due date for the preliminary determination. Therefore, the deadline for the completion of the preliminary determination is now October 26, 2009.

This notice is issued and published pursuant to section 703(c)(2) of the Act.

Dated: August 3, 2009.
Ronald K. Lorentzen,
Acting Assistant Secretary for Import Administration.

[FR Doc. E9-19086 Filed 8-7-09; 8:45 am]

BILLING CODE 3510-DS-S